NUCLEAR REGULATORY COMMISSION

[Docket Nos. 50-498 and 50-499]

STP Nuclear Operating Company; Notice of Withdrawal of Application for Amendments to Facility Operating Licenses

The U.S. Nuclear Regulatory Commission (the Commission) has granted the request of STP Nuclear Operating Company (the licensee) to withdraw its January 31, 2006, application for proposed amendments to Facility Operating Licenses numbered NPF-76 and NPF-80, respectively, for the South Texas Project, Units 1 and 2, located in Matagorda County. The proposed amendments would have revised the Technical Specification 3.8.3.1, “Onsite Power Distribution—Operating.”

The Commission had previously issued a Notice of Consideration of Issuance of Amendments published in the Federal Register on February 28, 2006 (71 FR 10077). However, by letter dated March 26, 2007, the licensee withdrew the proposed change.

For further details with respect to this action, see the application for amendment dated January 31, 2006, and the licensee's letter dated March 26, 2007, which withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management Systems (ADAMS) Public Electronic Reading Room on the Internet at the NRC Web site, http://www.nrc.gov/reading-rm.html. Persons who do not have access to ADAMS or who encounter problems in accessing the documents located in ADAMS should contact the NRC PDR Reference staff by telephone at 1-800-397-4209, or 301-415-4737 or by e-mail to pdr@nrc.gov.

Dated at Rockville, Maryland, this 27th day of March 2007.
For the Nuclear Regulatory Commission.
Mohan C. Thadani,
Senior Project Manager, Plant Licensing Branch IV, Division of Operating Reactor Licensing, Office of Nuclear Reactor Regulation.

[FR Doc. E7-6086 Filed 4-2-07; 8:45 am]

BILLING CODE 7590-01-P